NUCLEAR REGULATORY COMMISSION

[Docket No. 52-039; NRC-2008-0603]

Combined License Application for Bell Bend Nuclear Power Plant

AGENCY: Nuclear Regulatory Commission.

ACTION: Final environmental impact statement; issuance.

SUMMARY: The U.S. Nuclear Regulatory Commission (NRC) and the U.S. Army Corps of Engineers (USACE), Baltimore District, have completed the final environmental impact statement (EIS), NUREG-2179, “Environmental Impact Statement for the Combined License (COL) for the Bell Bend Nuclear Power Plant.” The USACE and the NRC are cooperating agencies that jointly participated in the preparation the final EIS for use in both agencies' decision-making processes. The site is located in Luzerne County, Pennsylvania.

DATES: The final EIS is available April 21, 2016.

ADDRESSES: Please refer to Docket ID NRC-2008-0603, when contacting the NRC about the availability of information regarding this document. You may obtain publicly-available information related to this document using any of the following methods:

• Federal Rulemaking Web site: Go to http://www.regulations.gov and search Docket ID NRC-2008-0603. Address questions about NRC dockets to Carol Gallagher; telephone: 301-415-3463; email: Carol.Gallagher@nrc.gov. For technical questions, contact the individual(s) listed in the FOR FURTHER INFORMATION CONTACT section of this document.

• NRC'S Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov .The ADAMS accession number for each document referenced (if it is available in ADAMS) is provided the first time that it is mentioned in this document. The final EIS is available in ADAMS under Accession Nos. ML16111B169 and ML16111B193, respectively.

• NRC's PDR: You may examine and purchase copies of public documents at the NRC's PDR, Room O1-F21, One White Flint North, 11555 Rockville Pike, Rockville, Maryland 20852.

FOR FURTHER INFORMATION CONTACT: Tomeka Terry, telephone: 301-415-1488, email: Tomeka.Terry@nrc.gov or Patricia Vokoun, telephone: 301-415-3470, email: Patricia.Vokoun@nrc.gov. Both are staff members of the Office of New Reactors, U.S. Nuclear Regulatory Commission, Washington, DC 20555-0001.

SUPPLEMENTARY INFORMATION:

I. Background

In accordance with Section 51.118 of title 10 of the Code of Federal Regulations, the NRC is issuing NUREG-2179. A notice of availability of the draft EIS was published by the NRC in the Federal Register on April 21, 2015 (80 FR 22231), and the U.S. Environmental Protection Agency on April 24, 2015 (80 FR 22992). The public comment period on the draft EIS ended July 7, 2015; public comments are addressed in Appendix E in the final EIS. The final EIS is available for public inspection as indicated in the ADDRESSES section of this document. It is also available at the McBride Memorial Library, 500 North Market Street, Berwick, Pennsylvania, 18603 and the Mill Memorial Public Library, 495 East Main Street, Nanticoke, Pennsylvania, 17101. The final EIS also can be accessed online at the NRC's Bell Bend Nuclear Power Plant COL specific Web page at http://www.nrc.gov/reactors/new-reactors/col/bell-bend.html. The final EIS also supports the USACE's review of the Department of the Army permit application for certain construction activities at the Bell Bend Nuclear Power Plant. The USACE's Department of the Army permit application number for the Bell Bend Nuclear Power Plant project is CENAB-OP-RPA-2008-01401. The USACE's Public Interest Review will be part of its Record of Decision and is not addressed in the final EIS.

II. Discussion

As discussed in the final EIS, the NRC staff's recommendation related to the environmental aspects of the proposed action is that the COL should be issued. This recommendation is based on: (1) The environmental report (ER) submitted by Talen Energy; (2) consultation with Federal, State, Tribal, and local agencies; (3) the NRC staff's independent review; (4) the NRC staff's consideration of comments received during the environmental review; and (5) the assessments summarized in the final EIS, including the potential mitigation measures identified in the ER and in the final EIS. In addition, in making its preliminary recommendation, the NRC staff has concluded that there are no environmentally preferable or obviously superior sites in the region of interest.

Dated at Rockville, Maryland, this 21 day of April 2016.
For the Nuclear Regulatory Commission.
Mark Delligatti,
Deputy Director, Division of New Reactor Licensing, Office of New Reactors.

[FR Doc. 2016-09986 Filed 4-28-16; 8:45 am]

BILLING CODE 7590-01-P